FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Federal Reserve Membership and Bank Stock Applications (FR 2083, FR 2083A, FR 2083B, FR 2083C, FR 2030, FR 2030a, FR 2056, FR 2086, FR 2086a, and FR 2087; OMB No. 7100-0042).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing one of the collection identifiers, FR 2083, FR 2083A, FR 2083B, FR 2083C, FR 2030, FR 2030a, FR 2056, FR 2086, FR 2086a, or FR 2087.

Final Approval Under OMB Delegated Authority of the Extension for Three Years, Without Revision, of the Following Information Collection

Collection title: Federal Reserve Membership and Bank Stock Applications.

Collection identifier: FR 2083, FR 2083A, FR 2083B, FR 2083C, FR 2030, FR 2030a, FR 2056, FR 2086, FR 2086a, and FR 2087.

OMB control number: 7100-0042.

General description of collection: The Federal Reserve Membership and Bank Stock Applications are comprised of the following application reporting forms:

• Application to the Board of Governors of the Federal Reserve System for Membership in the Federal Reserve System (FR 2083);

• Application for Federal Reserve Bank Stock (for use by state banks converting to a state member bank; national banks which already subscribe to Federal Reserve Bank stock should not complete this application when converting to a state member bank) (FR 2083A);

• Application for Federal Reserve Bank Stock (for use by mutual savings banks) (FR 2083B); and

• Certificate of Organizers or of Directors (FR 2083C), (FR 2083, FR 2083A, FR 2083B, and FR 2083C, together, the Federal Reserve Membership Application).

• Application for Federal Reserve Bank Stock (for use by new national banks) (FR 2030);

• Application for Federal Reserve Bank Stock (for use by nonmember state banks converting into national banks and federal savings associations that have elected to operate as a covered savings association (CSA)) (FR 2030a);

• Application for Adjustment in the Holding of Federal Reserve Bank Stock (for use by member banks that will survive a merger or consolidation with another bank) (FR 2056);

• Application for Cancellation of Federal Reserve Bank Stock (for use by member banks in voluntary liquidation) (FR 2086);

• Application for Cancellation of Federal Reserve Bank Stock (for use by member banks converting into or merging into member or nonmember banks and CSAs terminating an election to operate as a CSA) (FR 2086a); and

• Application for Cancellation of Federal Reserve Bank Stock (for use by insolvent member banks) (FR 2087), (FR 2030, 2030a, FR 2056, FR 2086, FR 2086a, and FR 2087, together, the Federal Reserve Bank Stock Applications).

Frequency: Event-generated.

Respondents: The Federal Reserve Membership Application panel comprises state-chartered banks converting to a state member bank, national banks converting to a state charter, and mutual savings banks applying for membership in the Federal Reserve System. The Federal Reserve Bank Stock Applications respondent panel comprises national banks seeking to purchase Federal Reserve Bank stock, nonmember state banks converting into a national bank, federal savings associations that have elected to operate as a CSA, CSAs terminating an election to operate as a CSA, and member banks seeking to increase, decrease, or cancel their Federal Reserve Bank stock holdings.

Total estimated number of respondents: FR 2083, FR 2083A, FR 2083B, FR 2083C: 32; FR 2030: 11; FR 2030a: 16; FR 2056: 177; FR 2086: 1; FR 2086a: 90; and FR 2087: 1.

Estimated average hours per response: FR 2083, FR 2083A, FR 2083B, FR 2083C: 6.21; FR 2030: 0.66; FR 2030a: 0.63; FR 2056: 0.78; FR 2086: 0.56; FR 2086a: 0.55; and FR 2087: 0.53.

Total estimated annual burden hours: 406.

Current actions: On May 31, 2025, the Board published a notice in the Federal Register (90 FR 36051) requesting public comment for 60 days on the extension, without revision, of the FR 2083, FR 2083A, FR 2083B, FR 2083C, FR 2030, FR 2030a, FR 2056, FR 2086, FR 2086a, and FR 2087. The comment period for this notice expired on September 29, 2025. The Board did not receive any comments.

Board of Governors of the Federal Reserve System, December 4, 2025.
Erin M. Cayce,
Assistant Secretary of the Board.

[FR Doc. 2025-22259 Filed 12-5-25; 8:45 am]

BILLING CODE 6210-01-P